DEPARTMENT OF THE TREASURY

Submission for OMB Review; Comment Request

September 20, 2002.

The Department of Treasury has submitted the following public information collection requirement(s) to OMB for review and clearance under the Paperwork Reduction Act of 1995, Public Law 104-13. Copies of the submission(s) may be obtained by calling the Treasury Bureau Clearance Officer listed. Comments regarding this information collection should be addressed to the OMB reviewer listed and to the Treasury Department Clearance Officer, Department of the Treasury, Room 2110, 1425 New York Avenue, NW, Washington, D.C. 20220.

DATES: Written comments should be received on or before November 1, 2002 to be assured of consideration.

Bureau of Engraving and Printing (BEP)

OMB Number: 1520-0001.

Form Number: BEP 5283.

Type of Review: Extension.

Title: Owner's Affidavit of Partial Destruction of Mutilated Currency.

Description: The Office of Currency Redemption and Destruction Standards, Bureau of Engraving and Printing, requests owners of partially destroyed U.S. currency to complete a notarized affidavit (Form BEP 5283) for each claim submitted when submitted when substantial portions of notes are missing.

Respondents: Individuals or households.

Estimated Number of Respondents: 300.

Estimated Burden Hours Per Response: 36 minutes.

Frequency of Response: On occasion.

Estimated Total Reporting Burden: 180 hours.

Clearance Officer: Pam Corsini, (202) 874-2647, Bureau of Engraving and Printing, Room 3.2.C, Engraving and Printing Annex, 14th and C Streets, SW, Washington, DC 20228.

OMB Reviewer: Alexander T. Hunt, (202) 395-7860, Office of Management and Budget, Room 10202, New Executive Office Building, Washington, DC 20503.

Lois K. Holland,
Departmental Reports, Management Officer.

[FR Doc. 02-24975 Filed 10-1-02; 8:45 am]

BILLING CODE 4840-01-P